DEPARTMENT OF AGRICULTURE

Commodity Credit Corporation

Notice of Funds Availability; Inviting Applications for the Market Access Program; Correction

AGENCY: Foreign Agricultural Service, U.S. Department of Agriculture.

ACTION: Notice; correction.

SUMMARY: The Foreign Agricultural Service published a document in the Federal Register of April 23, 2012, concerning funds availability and inviting applications for the Market Access Program (MAP). The document contained incorrect dates.

FOR FURTHER INFORMATION CONTACT: Mark Slupek, 202-720-4327.

Correction

In the Federal Register of April 23, 2012, in FR Doc. 2012-9639, on page 24169, in the second column, correct the DATES caption to read:

DATES: All applications must be received by 5 p.m. Eastern Daylight Time, May 23, 2012. Applications received after this date will not be considered.

IV. Application and Submission Information

In the Federal Register of April 23, 2012, in FR Doc. 2012-9639, on page 24170, in the second column, correct the “3. Submission Dates and Times” caption to read:

3. Submission Dates and Times. All applications must be received by 5 p.m. Eastern Daylight Time, May 23, 2012. All MAP applicants, regardless of the method of submitting an application, must also submit by the application deadline, an original signed certification statement as specified in 7 CFR 1485.13(a)(2)(i)(G) to the Program Operations Division, Office of Trade Programs, Foreign Agricultural Service, U.S. Department of Agriculture, Room 6512, 1400 Independence Ave. SW., Washington, DC 20250. Applications or certifications received after this date will not be considered.

Dated: April 27, 2012.
Suzanne E. Heinen,
Administrator, Foreign Agricultural Service, and Vice President, Commodity Credit Corporation.

[FR Doc. 2012-11124 Filed 5-8-12; 8:45 am]

BILLING CODE 3410-10-P